DEPARTMENT OF HEALTH AND HUMAN SERVICES

Announcing Call for Nominations for Members of the President's Council on Sports, Fitness & Nutrition Science Board

AGENCY: Office of Disease Prevention and Health Promotion, Office of the Assistant Secretary for Health, Office of the Secretary, Department of Health and Human Services.

ACTION: Notice.

SUMMARY: The Department of Health and Human Services (HHS) seeks nominations of qualified candidates to serve as members of the President's Council on Sports, Fitness & Nutrition Science Board.

DATES: Nominations for membership on the Science Board will be accepted through 11:59 p.m. E.T. on October 11, 2019.

ADDRESSES: Nominations should be submitted by email to sports@hhs.gov.

FOR FURTHER INFORMATION CONTACT: Katrina L. Piercy, Ph.D., R.D., Office of Disease Prevention and Health Promotion (ODPHP), Office of the Assistant Secretary for Health (OASH), HHS; 1101 Wootton Parkway, Suite 420; Rockville, MD 20852; Telephone: (240) 453-8280. Email: odphpinfo@hhs.gov.

SUPPLEMENTARY INFORMATION: The Science Board is a subcommittee of the President's Council on Sports, Fitness & Nutrition (the Council) and is made up of Council members and scholars with expertise in the fields of physical activity, health, sports, and nutrition. The role of the Science Board is to assist the Council by providing scientific guidance. For the 2020-2021 term, the Science Board will focus its efforts around the Council's and HHS's implementation and dissemination of the National Youth Sports Strategy and youth sports-related topics. The main duties of the Science Board will be to: (a) Provide subject matter expertise on youth sports and related disciplines; (b) draft content for publication (e.g., blogs, peer-reviewed articles) to various audiences highlighting specific youth sports topics; and (c) participate virtually in Science Board meetings and presentations to the Council.

Nominations: HHS will consider nominations, including self-nominations, for Science Board members of individuals qualified to carry out the above-mentioned tasks. Science Board members must hold a Ph.D., MD, or related terminal degree in the fields of physical activity, health, sports, and/or nutrition. The following information should be included in the package of material submitted for each individual being nominated for consideration: (1) The name, address, daytime telephone number, and email address of the nominator and the individual being nominated; (2) a letter of nomination that clearly states the name and affiliation of the nominee, the basis for the nomination (i.e., specific attributes which qualify the nominee for service in this capacity), and a statement from the nominee that the nominee is willing to serve as a member of the Science Board; and (3) a current copy of the nominee's curriculum vitae (CV) no more than 10 pages in length. Inclusion of the following is requested in the CV: (1) Academic appointment; (2) current and/or past grant awards; (3) publications showing breadth and experience in areas of specialization; (4) paid and non-paid board and advisory appointments; and (5) education and occupational history.

All nominations must include the required information. Incomplete nominations will not be processed for consideration. All nomination information should be sent in a single email, with attachments, to sports@hhs.gov. All nominations must be submitted by 11:59 p.m. E.T on Friday, October 11, 2019.

Equal opportunity practices regarding membership appointments to the Science Board will be aligned with HHS policies. When possible, every effort will be made to ensure that the Science Board is a diverse group of individuals with representation from various geographic locations, racial and ethnic minorities, all genders, and persons with disabilities. Individuals will be appointed to serve as members of the Science Board to represent balanced viewpoints of the scientific evidence, not to represent the viewpoints of any specific group.

Dated: August 22, 2019.
Donald Wright,
Deputy Assistant Secretary for Health, Office of Disease Prevention and Health Promotion.

[FR Doc. 2019-19384 Filed 9-6-19; 8:45 am]

BILLING CODE 4150-32-P